DEPARTMENT OF LABOR

Comment Request for Information Collection for the Evaluation of the Youth CareerConnect Grant Program, New Collection

AGENCY: Office of the Assistant Secretary for Policy, Department of Labor.

ACTION: Notice.

SUMMARY: The Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents is properly assessed. Currently, the Department of Labor is soliciting comments concerning the collection of data about the Evaluation of the Youth CareerConnect (YCC) Grant Program [SGA/DFA PY-13-01]. A copy of the proposed Information Collection Request (ICR) can be obtained by contacting the office listed in the addressee section of this notice.

DATES: Written comments must be submitted to the office listed in the addressee's section below on or before December 7, 2014.

ADDRESSES: You may submit comments by either one of the following methods: Email: ChiefEvaluationOffice@dol.gov; Mail or Courier: Chief Evaluation Office, OASP, U.S. Department of Labor, Room S-2312, 200 Constitution Avenue NW., Washington, DC 20210.

FOR FURTHER INFORMATION CONTACT: Molly Irwin by telephone at 202-693-5091 (this is not a toll-free number) or by email at ChiefEvaluationOffice@dol.gov.

SUPPLEMENTARY INFORMATION:

I. Background

The proposed information collection activities described in this notice will provide data for an impact and implementation evaluation of the Youth CareerConnect program. In spring 2014, the Employment and Training Administration (ETA) in the U.S. Department of Labor (DOL) awarded a total of $107 million to 24 grantees to implement the YCC program. The program is a high school based initiative aimed at improving students' college and career readiness in particular employment sectors. The programs are redesigning the high school experience through partnerships with colleges and employers to provide skill-developing and work-based learning opportunities to help students prepare for jobs in high-demand occupations.

The evaluation will address three main research questions: (1) What was the impact of the YCC programs on students' short-term outcomes? (2) How were the YCC programs implemented? and (3) Did the effectiveness of YCC programs vary by student and grantee characteristics? The impact study will employ a randomized controlled trial (RCT) to estimate program effectiveness and will be carried out in a subset of YCC grantees. The implementation study will draw on data gathered from all YCC grantees.

This Federal Register Notice provides the opportunity to comment on four proposed data collection instruments that will be used in the YCC evaluation:

(1) Parental consent and student assent forms. For the impact study, active consent will be obtained from a parent, guardian, or other adult who has responsibility for students in sites recruited for the impact study. Additionally, students for whom written parental consent has been obtained will be asked to assent to data collection.

(2) Baseline Information Forms (BIFs) will be completed by students and parents. The student BIF will collect information on experiences at school, behavior in school, activities, employment experience, and plans for future education. The parent BIF will collect information on household characteristics and education expectations for their children. BIFs will also provide detailed contact information to be used to locate participants for the follow-up survey. Whenever possible, BIFs will be integrated into the application process to limit respondent burden.

(3) Grantee survey. A grantee survey will provide information about all grantees funded for YCC programs. It will collect details on service delivery models, staffing, staff development, partnerships, and the implementation of the main program elements.

(4) Site visit protocols. Site visits will occur at three points in time and will collect information on program design, implementation, and challenges, as well as how program models change over time.

A future information collection request will include a 36-month follow up survey of members of the treatment and control groups.

II. Review Focus

Currently, DOL is soliciting comments concerning the above data collection for the evaluation of YCC. DOL is particularly interested in comments that do the following:

• Evaluate whether the proposed collection of information is necessary for the proper performance functions of the agency, including whether the information will have practical utility;

• Evaluate the accuracy of the agency's burden estimate of the proposed information collection, including the validity of the methodology and assumptions used;

• Enhance the quality, utility, and clarity of the information to be collected; and

• Minimize the burden of the collection of information on those who are to respond, including through the use of appropriate automated, electronic, mechanical, or other technological collection techniques or other forms of information technology (for example, permitting electronic submissions of responses).

III. Current Actions

At this time, DOL is requesting clearance for the parental consent and student assent forms, student and parent BIFs, grantee surveys, and site visit protocols.

Type of Review: New collection.

Title: Youth Career Connect (YCC) grant program.

OMB Number: OMB Control Number 1205-0NEW.

Estimated Total Burden Hours
Respondents | Number of respondents | Number of responses per respondent | Average burden time per response (minutes) | Total burden hours
Consent, Assent, and Baseline Enrollment Forms
Students (including assent) | ᵃ 4,000 | 1 | 18 | 1,200
Parents (including consent) | ᵃ 4,000 | 1 | 10 | 667
YCC Staff | ᵇ 50 | 80 | 5 | 333
Grantee Survey and Site Visits
Grantee survey | 24 | 2 | 30 | 24
Site visits: |  |  |  |
Round 1: |  |  |  |
Staff | ᶜ 170 | 1 | 60 | 170
Students | ᶜ 60 | 1 | 60 | 60
Round 2: |  |  |  |
Staff | ᶜ 170 | 1 | 30 | 85
Students | ᶜ 60 | 1 | 60 | 60
Round 3: |  |  |  |
Staff | ᶜ 170 | 1 | 30 | 85
Students | ᶜ 60 | 1 | 60 | 60
Total | 8,764 | 90 |  | 2,744
ᵃ The figures correspond to 200 treatment and 200 control group students in each of 10 study sites.
ᵇ The figures assume 5 staff members at each of 10 sites.
ᶜ Assumes 17 staff and 6 students are interviewed at each of 10 sites.

Affected Public: Students and parents applying for YCC program, YCC program staff, and students in YCC program.

Form(s): Total annual respondents: 4,000 students; 4,000 parents; and 244 staff.

Annual Frequency: One time for the consent, assent, and BIFs, one time for each round of site visits, and two times for the grantee survey.

Comments submitted in response to this comment request will be summarized and/or included in the request for Office of Management and Budget approval of the information collection request; they will also become a matter of public record.

Dated: October 8, 2014.
James H. Moore, Jr.,
Deputy Assistant Secretary for Policy, U.S. Department of Labor.

[FR Doc. 2014-24676 Filed 10-16-14; 8:45 am]

BILLING CODE 4510-23-P